DEPARTMENT OF TRANSPORTATION

Federal Aviation Administration

14 CFR Part 39

[Docket No. FAA-2018-1007; Product Identifier 2018-NM-141-AD; Amendment 39-19577; AD 2019-03-25]

RIN 2120-AA64

Airworthiness Directives; Airbus SAS Airplanes

AGENCY: Federal Aviation Administration (FAA), Department of Transportation (DOT).

ACTION: Final rule.

SUMMARY: We are adopting a new airworthiness directive (AD) for certain Airbus SAS Model A318 and A319 series airplanes, Model A320-211, -212, -214, -216, -231, -232, and -233 airplanes, and Model A321-111, -112, -131, -211, -212, -213, -231, and -232 airplanes. This AD was prompted by a report that taperloks used in a certain wing-to-fuselage junction were found to be non-compliant with the applicable specification, resulting in a loss of pre-tension in the fasteners. This AD requires repetitive special detailed inspections of the center and outer wing box lower stiffeners and panels at a certain junction on the left- and right-hand sides for any cracking, and repair if necessary, as specified in an European Aviation Safety Agency (EASA) AD, which is incorporated by reference. This AD also provides an optional modification, which would terminate the repetitive inspections. We are issuing this AD to address the unsafe condition on these products.

DATES: This AD is effective April 16, 2019.

The Director of the Federal Register approved the incorporation by reference of a certain publication listed in this AD as of April 16, 2019.

ADDRESSES: For the incorporation by reference (IBR) material described in the “Related IBR Material Under 1 CFR part 51” section in SUPPLEMENTARY INFORMATION identified in this final rule, contact European Aviation Safety Agency (EASA), Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available on the internet at http://www.regulations.gov by searching for and locating Docket No. FAA-2018-1007.

Examining the AD Docket

You may examine the AD docket on the internet at http://www.regulations .gov by searching for and locating Docket No. FAA-2018-1007; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 by adding an AD that would apply to certain Airbus SAS Model A318 and A319 series airplanes, Model A320-211, -212, -214, -216, -231, -232, and -233 airplanes, and Model A321-111, -112, -131, -211, -212, -213, -231, and -232 airplanes. The NPRM published in the Federal Register on December 11, 2018 (83 FR 63598). The NPRM was prompted by a report that taperloks used in a certain wing-to-fuselage junction were found to be non-compliant with the applicable specification, resulting in a loss of pre-tension in the fasteners. The NPRM proposed to require repetitive special detailed inspections of the center and outer wing box lower stiffeners and panels at a certain junction on the left- and right-hand sides for any cracking, and repair if necessary, as specified in, and in compliance with, EASA AD 2018-0218, dated October 11, 2018; corrected October 26, 2018 (“EASA AD 2018-0218”). The NPRM also proposed, as specified in EASA AD 2018-0218, an optional modification, which would terminate the repetitive inspections.

We are issuing this AD to address the loss of pre-tension in the fasteners, which could affect the structural integrity of the airplane.

The EASA, which is the Technical Agent for the Member States of the European Union, has issued EASA AD 2018-0218 (also referred to as the Mandatory Continuing Airworthiness Information, or “the MCAI”), to correct an unsafe condition for certain Airbus SAS Model A318 and A319 series airplanes, Model A320-211, -212, -214, -216, -231, -232, and -233 airplanes, and Model A321-111, -112, -131, -211, -212, -213, -231, and -232 airplanes. The MCAI states:

Taperloks used in the wing-to-fuselage junction at Rib 1 were found to be non-compliant with the applicable specification, resulting in a loss of pre-tension in the fasteners.

This condition, if not detected and corrected, could affect the structural integrity of the aeroplane. To address this potential unsafe condition, Airbus issued SB A320-57-1129 and SB A320-57-1130, later revised twice, providing instructions for repetitive internal inspections of the lower stiffeners and for repetitive external inspections of the lower panels of the center and outer wing box at the level of Rib 1 junction. Consequently, EASA issued AD 2007-0067, later revised [which corresponds to FAA AD 2008-02-15, Amendment 39-15345 (73 FR 4063, January 24, 2008) (“AD 2008-02-15”)], to require accomplishment of these inspections.

Since EASA AD 2007-0067R1 was issued, new events and the results of studies identified an aging effect on these parts. Prompted by these findings, Airbus revised SB A320-57-1129 (now at Revision 05) and A320-57-1130 (now at Revision 04), expanding the applicability, modifying the area to be inspected and updating the inspection intervals.

For the reasons stated above, this [EASA] AD retains the requirements of EASA AD 2007-0067R1, which is superseded, expands the Applicability, modifies the areas to be inspected and revises the inspection thresholds and intervals.

This [EASA] AD is republished to correct typographical errors in paragraph (2) and in Tables 1 and 3.

You may examine the MCAI in the AD docket on the internet at http://www.regulations.gov by searching for and locating Docket No. FAA-2018-1007.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related IBR Material Under 1 CFR Part 51

EASA AD 2018-0218 describes procedures for repetitive special detailed inspections of the center and outer wing box lower stiffeners and panels at the level of rib 1 junction on the left- and right-hand sides for any cracking, and repair if necessary. EASA AD 2018-0218 also provides procedures for an optional modification, which would terminate the repetitive inspections. This material is reasonably available because the interested parties have access to it through their normal course of business or by the means identified in the ADDRESSES section and it is publicly available through the EASA website.

Costs of Compliance

We estimate that this AD affects 516 airplanes of U.S. registry. We estimate the following costs to comply with this AD:

Estimated Costs for Required Actions
Labor cost | Parts cost | Cost per product | Cost on U.S. operators
51 work-hours × $85 per hour = $4,335 | $0 | $4,335 | $2,236,860

We have received no definitive data that would enable us to provide cost estimates for the on-condition actions specified in this AD.

Estimated Costs for Optional Actions
Labor cost | Parts cost | Cost per product
244 work-hours × $85 per hour = $20,740 | $5,120 | $25,860

Authority for This rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-03-25 Airbus SAS: Amendment 39-19577; Docket No. FAA-2018-1007; Product Identifier 2018-NM-141-AD.

(a) Effective Date

This AD is effective April 16, 2019.

(b) Affected ADs

This AD affects AD 2008-02-15, Amendment 39-15345 (73 FR 4063, January 24, 2008) (“AD 2008-02-15”).

(c) Applicability

This AD applies to Airbus SAS Model A318-111, -112, -121, and -122 airplanes, Model A319-111, -112, -113, -114, -115, -131, -132, and -133 airplanes, Model A320-211, -212, -214, -216, -231, -232, and -233 airplanes, and Model A321-111, -112, -131, -211, -212, -213, -231, and -232 airplanes, certificated in any category, as identified in the European Aviation Safety Agency (EASA) AD 2018-0218, dated October 11, 2018; corrected October 26, 2018 (“EASA AD 2018-0218”).

(d) Subject

Air Transport Association (ATA) of America Code 57, Wings.

(e) Reason

This AD was prompted by a report that taperloks used in the wing-to-fuselage junction at rib 1 were found to be non-compliant with the applicable specification, resulting in a loss of pre-tension in the fasteners. We are issuing this AD to address the loss of pre-tension in the fasteners, which could affect the structural integrity of the airplane.

(f) Compliance

Comply with this AD within the compliance times specified, unless already done.

(g) Requirements

Except as specified in paragraph (h) of this AD: Comply with all required actions and compliance times specified in, and in accordance with, EASA AD 2018-0218.

(h) Exceptions to EASA AD 2018-0218

(1) For purposes of determining compliance with the requirements of this AD: Where EASA AD 2018-0218 refers to its effective date, this AD requires using the effective date of this AD.

(2) The “Remarks” section of EASA AD 2018-0218 does not apply.

(3) Where EASA AD 2018-0218 refers to instructions provided by Airbus, for this AD, the instructions must be approved using a method approved by the Manager, International Section, Transport Standards Branch, FAA; or EASA; or Airbus SAS's EASA Design Organization Approval (DOA). If approved by the DOA, the approval must include the DOA-authorized signature.

(i) Terminating Action for AD 2008-02-15

Accomplishing the actions required by this AD terminates all requirements of AD 2008-02-15.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA DOA. If approved by the DOA, the approval must include the DOA-authorized signature.

(3) Required for Compliance (RC): For any service information referenced in EASA AD 2018-0218 that contains RC procedures and tests: Except as required by paragraph (j)(2) of this AD: RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, International Section, Transport Standards Branch, FAA, 2200 South 216th St., Des Moines, WA 98198; telephone and fax 206-231-3223.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0218, dated October 11, 2018; corrected October 26, 2018.

(ii) [Reserved]

(3) For EASA AD 2018-0218, contact EASA, Konrad-Adenauer-Ufer 3, 50668 Cologne, Germany; telephone +49 221 89990 6017; email ADs@easa.europa.eu; Internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0218 may be found in the AD docket on the internet at http://www.regulations.gov by searching for and locating Docket No. FAA-2018-1007.

(5) You may view this material that is incorporated by reference at the National Archives and Records Administration (NARA). For information on the availability of this material at NARA, call 202-741-6030, or go to: http://www.archives.gov/federal-register/cfr/ibr-locations.html.

Issued in Des Moines, Washington, on February 21, 2019.
Dionne Palermo,
Acting Director, System Oversight Division, Aircraft Certification Service.

[FR Doc. 2019-03405 Filed 3-11-19; 8:45 am]

BILLING CODE 4910-13-P